INTERNATIONAL TRADE COMMISSION

[Investigations Nos. 701-TA-309-A-B and 731-TA-528 (Review)]

Magnesium From Canada

Determinations

On the basis of the record ¹ developed in the subject five-year reviews, the United States International Trade Commission determines, pursuant to section 751(c) of the Tariff Act of 1930 (19 U.S.C. § 1675(c)) (the Act), that revocation of the countervailing duty orders ² and the antidumping duty order on magnesium from Canada would be likely to lead to continuation or recurrence of material injury to an industry in the United States within a reasonably foreseeable time.

¹ The record is defined in sec. 207.2(f) of the Commission's Rules of Practice and Procedure (19 CFR § 207.2(f)).

² Commissioner Thelma J. Askey dissenting.

Background

The Commission instituted these reviews on August 2, 1999, (64 FR 41961) and determined on November 4, 1999, that it would conduct full reviews (64 FR 62690, November 17, 1999). Notice of the scheduling of the Commission's reviews and of a public hearing to be held in connection therewith was given by posting copies of the notice in the Office of the Secretary, U.S. International Trade Commission, Washington, DC, and by publishing the notice in the Federal Register on February 10, 2000 (65 FR 6628). The hearing was held in Washington, DC, on May 31, 2000, and all persons who requested the opportunity were permitted to appear in person or by counsel.

The Commission transmitted its determinations in these investigations to the Secretary of Commerce on July 25, 2000. The views of the Commission are contained in USITC Publication 3324 (July 2000), entitled Magnesium from Canada: Investigations Nos. 701-TA-309-A-B and 731-TA-528 (Review).

Issued: July 26, 2000.
By order of the Commission.
Donna R. Koehnke,
Secretary.

[FR Doc. 00-19567 Filed 8-1-00; 8:45 am]

BILLING CODE 7020-02-P